ENVIRONMENTAL PROTECTION AGENCY

40 CFR Parts 52 and 81

[OH 159-1b; FRL-7775-1]

Approval and Promulgation of Implementation Plans; Ohio

AGENCY: Environmental Protection Agency (EPA).

ACTION: Proposed rule.

SUMMARY: On September 27, 2003, Ohio submitted proposed revisions to the State Implementation Plan (SIP) for sulfur dioxide (SO2) for several counties in Ohio, along with a request for redesignation of Cuyahoga County to attainment for SO2. In general, the submitted rules are at least equivalent to limitations originally promulgated by EPA in a Federal Implementation Plan (FIP) for the area. Therefore, EPA proposes to approve these revisions to the SIP. In conjunction with this action, EPA proposes to rescind the federally promulgated emission limitations for SO2 for these counties.

EPA also proposes to redesignate Cuyahoga County to attainment for SO2. In association with this proposal, EPA proposes to approve Ohio's plan for continuing to attain the SO2 standard in Cuyahoga County.

DATES: Comments or a request for a public hearing on this proposed rule must arrive on or before August 9, 2004.

ADDRESSES: Send written comments to: J. Elmer Bortzer, Acting Chief, Air Programs Branch (AR-18J), Environmental Protection Agency, 77 West Jackson Boulevard, Chicago, Illinois 60604.

Comments may also be submitted electronically, or through hand delivery/courier. Commenters are advised to review the information and follow the instructions for submitting comments as described in Part (I)(B) of the SUPPLEMENTARY INFORMATION section of the companion direct final rule published in the rules section of this Federal Register.

Copies of the revision request are available for inspection at the following address: Environmental Protection Agency, Region 5, Air and Radiation Division, 77 West Jackson Boulevard, Chicago, Illinois 60604. (We recommend that you telephone John Summerhays, Environmental Scientist, at (312) 886-6067 before visiting the Region 5 office.)

FOR FURTHER INFORMATION CONTACT: John Summerhays at (312) 886-6067.

SUPPLEMENTARY INFORMATION: In the Rules and Regulations section of this Federal Register, we are approving this revision in a direct final action without prior proposal because we believe these SIP revisions are not controversial. If we receive adverse comments, however, we will publish a timely withdrawal of the direct final rule and address the comments in subsequent action based on this proposed rule. EPA will not institute a second comment period. Any parties interested in commenting on this action should do so at this time.

For additional information, see the direct final rule published in the rules section of this Federal Register.

List of Subjects

40 CFR Part 52

Environmental protection, Air pollution control, Incorporation by reference, Intergovernmental relations, Reporting and recordkeeping requirements, Sulfur dioxide.

40 CFR Part 81

Air pollution control, National parks, Wilderness areas.

Authority: 42 U.S.C. 7401 et seq.

Dated: June 10, 2004.
Michael O. Leavitt,
Administrator.

[FR Doc. 04-15203 Filed 7-7-04; 8:45 am]

BILLING CODE 6560-50-P